DEPARTMENT OF COMMERCE

National Oceanic and Atmospheric Administration

RIN 0648-XF055

Endangered and Threatened Species; Take of Anadromous Fish

AGENCY: National Marine Fisheries Service (NMFS), National Oceanic and Atmospheric Administration, Commerce.

ACTION: Notice of decision and availability of decision documents on the issuance of six ESA section 10(a)(1)(A) research/enhancement permits for take of threatened species.

SUMMARY: This notice advises the public that six direct take permits have been issued pursuant to section 10(a)(1)(A) of the Endangered Species Act of 1973 (ESA) for continued operation, monitoring, and evaluation of hatchery program rearing and releasing salmon in Northeast Oregon and Southeast Washington portions of the Snake River basin, and associated decision documents. The permits were issued to the Oregon Department of Fish and Wildlife, Washington Department of Fish and Wildlife, and the Bureau of Indian Affairs.

DATES: The permits were issued on October 28, 2016, subject to certain conditions set forth therein. Subsequent to issuance, the necessary countersignatures by the applicants were received. The permits expire on December 31, 2027.

ADDRESSES: Requests for copies of the decision documents or any of the other associated documents should be directed to the Sustainable Fisheries Division, NOAA's National Marine Fisheries Service, 1201 NE Lloyd Blvd., Suite 1100, Portland, Oregon 97232. The documents are also available online at www.westcoast.fisheries.noaa.gov.

FOR FURTHER INFORMATION CONTACT: Brett Farman, Portland, Oregon, at phone number: (503) 231-6222, email: brett.farman@noaa.gov.

SUPPLEMENTARY INFORMATION: This notice is relevant to the following species and evolutionarily significant units (ESUs):

Chinook salmon (Oncorhynchus tshawytscha): Threatened, naturally produced and artificially propagated Snake River spring/summer.

Steelhead (O. mykiss): Threatened, naturally produced and artificially propagated Snake River.

Dated: November 29, 2016.
Angela Somma,
Chief, Endangered Species Division, Office of Protected Resources, National Marine Fisheries Service.

[FR Doc. 2016-29029 Filed 12-2-16; 8:45 am]

BILLING CODE 3510-22-P